DEPARTMENT OF ENERGY

Federal Energy Regulatory Commission

[Docket No. ER01-414-000]

Consumers Energy Company Michigan Electric Transmission Company; Notice of Filing

November 30, 2000.

Take notice that on November 13, 2000, Consumers Energy Company (Consumers) and Michigan Electric Transmission Company (Michigan Transco), tendered for filing a Michigan Transco Open Access Transmission Tariff (OATT) which is to supersede, for the most part, Consumers' OATT (Consumers FERC Electric Tariff No. 6). The revision is to reflect the proposed transfer of Consumer's transmission assets to Michigan Transco. Copies of the filing were served upon all customers under Consumers' OATT and upon the Michigan Public Service Commission.

Consumers and Michigan Transco request that the filed OATT be allowed to take effect on the date of the transfer of those assets, expected to occur approximately February 1, 2001.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or December 8, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at ­http://www.ferc.fed.us/efi/doorbell.htm.

Linwood A. Watson, Jr.,
Acting Secretary.

[FR Doc. 00-31125 Filed 12-6-00; 8:45 am]

BILLING CODE 6717-01-M